DEPARTMENT OF THE INTERIOR

Bureau of Land Management

[LLMTC 00900.L16100000.DP0000]

Notice of Public Meeting, Eastern Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Montana Resource Advisory Council (RAC) will meet as indicated below.

DATES: The Eastern Montana Resource Advisory Council meeting will be held on March 12, 2015 in Billings, Montana. The meeting will start at 8:00 a.m. and adjourn at approximately 4:30 p.m.

ADDRESSES: Billings Hampton Inn, 5110 Southgate Drive, Billings, MT 59101.

FOR FURTHER INFORMATION CONTACT: Mark Jacobsen, Public Affairs Specialist, BLM Eastern Montana/Dakotas District, 111 Garryowen Road, Miles City, Montana, 59301; (406) 233-2831; mjacobse@blm.gov. Persons who use a telecommunications device for the deaf (TDD) may call the Federal Information Relay Service (FIRS) at 1-800-677-8339 to contact the above individual during normal business hours. The FIRS is available 24 hours a day, 7 days a week to leave a message or a question with the above individual. You will receive a reply during normal business hours.

SUPPLEMENTARY INFORMATION: The 15-member Eastern Montana Resource Advisory Council advises the Secretary of the Interior through the BLM on a variety of planning and management issues associated with public land management in Montana. At this meeting the agenda will include: RAC member and BLM staff introductions, a Pumpkin Creek subcommittee progress report, a report on the February RAC chair meeting, individual RAC member reports to BLM managers, Eastern Montana/Dakotas District, Miles City Field Office and Billings Field Office progress reports and other issues the RAC may choose to discuss during the course of the meeting. This meeting is open to the public and will have time allocated for hearing public comments. The public may also present written comments to the council. Depending on the number of persons wishing to comment and the time available, the time for individual oral comments may be limited. Individuals who plan to attend and need special assistance, such as sign language interpretation, tour transportation or other reasonable accommodations should contact the BLM as provided above.

Authority: 43 CFR 1784.4-2.

Diane M. Friez,
Eastern Montana/Dakotas District Manager.

[FR Doc. 2015-02281 Filed 2-4-15; 8:45 am]

BILLING CODE 4310-DN-P